DEPARTMENT OF COMMERCE

International Trade Administration

[A-552-801]

Certain Frozen Fish Fillets From the Socialist Republic of Vietnam: Final Results and Partial Rescission of Administrative Review; 2022-2023

AGENCY: Enforcement and Compliance, International Trade Administration, Department of Commerce.

SUMMARY: The U.S. Department of Commerce (Commerce) determines that Bien Dong Seafood Joint Stock Company (Bien Dong), an exporter of certain frozen fish fillets (fish fillets) from the Socialist Republic of Vietnam (Vietnam), did not sell subject merchandise in the United States at prices below normal value (NV) during the period of review (POR) August 1, 2022, through July 31, 2023. Commerce also determines that six additional companies, Can Tho Import Export Seafood Joint Stock Company (CASEAMEX), Dai Thanh Seafoods Company Limited (Dai Thanh), Dong A Seafood One Member Company Limited (Dong A), HungCa 6 Corporation (HungCa 6), Nam Viet Corporation (NAVICO), and NTSF Seafoods Joint Stock Company (NTSF), are eligible for separate-rate status. Commerce is also rescinding the review with respect to the Vietnam-wide entity.

DATES: Applicable June 18, 2025.

FOR FURTHER INFORMATION CONTACT: Javier Barrientos, AD/CVD Operations, Office V, Enforcement and Compliance, International Trade Administration, U.S. Department of Commerce, 1401 Constitution Avenue NW, Washington, DC 20230; telephone: (202) 482-2243.

SUPPLEMENTARY INFORMATION:

Background

On September 17, 2024, Commerce published the Preliminary Results of this administrative review and invited interested parties to comment.¹ On December 9, 2024, Commerce tolled the deadlines in the review by 90 days.² On April 2, 2025, Commerce extended the deadline for issuance of these final results to June 13, 2025.³ For a complete description of the events that occurred subsequent to the Preliminary Results, see the Issues and Decision Memorandum.

¹ See Certain Frozen Fish Fillets from the Socialist Republic of Vietnam: Preliminary Results of Antidumping Duty Administrative Review and Rescission of Administrative Review, in Part; 2022-2023, 89 FR 76081 (September 17, 2024) (Preliminary Results), and accompanying Preliminary Decision Memorandum (PDM).

² See Memorandum, “Tolling of Deadlines for Antidumping and Countervailing Duty Proceedings,” dated December 9, 2024.

³ See Memorandum, “Extension of Deadline for Final Results of Antidumping Duty Administrative Review,” dated April 2, 2025.

Scope of the Order ⁴

⁴ See Notice of Antidumping Duty Order: Certain Frozen Fish Fillets from the Socialist Republic of Vietnam, 68 FR 47909 (August 12, 2003) (Order).

The products covered by the Order are fish fillets from Vietnam. For a complete description of the scope of this order, see the Issues and Decision Memorandum.⁵

⁵ See Memorandum, “Issues and Decision Memorandum for the Final Results of the Antidumping Duty Administrative Review of Certain Frozen Fish Fillets from the Socialist Republic of Vietnam; 2022-2023,” dated concurrently with, and hereby adopted by, this notice (Issues and Decision Memorandum).

Analysis of Comments Received

We addressed all issues raised in the case and rebuttal briefs filed by interested parties in the Issues and Decision Memorandum. A list of the issues addressed in the Issues and Decision Memorandum is provided in Appendix I to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

Partial Rescission of Review

As noted in the Preliminary Results, pursuant to 19 CFR 351.213(d)(1), Commerce will rescind an administrative review, in whole or in part, if the party that requested a review withdraws the request within 90 days of the date of the publication of the notice of initiation. The only remaining review request for the Vietnam-wide entity is from Luscious Seafood LLC (Luscious Seafood). In these final results, we have determined that Luscious Seafood was not a U.S. wholesaler of domestic-like product during the POR, and, thus, does not have standing to request an administrative review in this segment of the proceeding. Accordingly, we are rescinding our review of the Vietnam-wide entity because there are no pending valid requests for review.⁶

⁶ We also note that it is Commerce's practice to rescind an administrative review of an antidumping duty order when there are no reviewable entries of subject merchandise during the POR for which liquidation is suspended. In light of Commerce's determinations regarding separate rate status for the companies referenced above, there were no entries of subject merchandise for the Vietnam-wide entity subject to this review during the POR. See 19 CFR 351.213(d)(3); see also Dioctyl Terephthalate from the Republic of Korea: Rescission of Antidumping Administrative Review; 2021-2022, 88 FR 24758 (April 24, 2023); and Certain Carbon and Alloy Steel Cut-to Length Plate from the Federal Republic of Germany: Recission of Antidumping Administrative Review; 2020-2021, 88 FR 4157 (January 24, 2023).

Separate Rates

We continue to find that the non-individually-examined exporters, i.e., CASEAMEX, Dai Thanh, Dong A, HungCa 6, NAVICO, and NTSF, have demonstrated eligibility for separate rates.⁷ As noted below, we have assigned CASEAMEX, Dai Thanh, Dong A, HungCa 6, NAVICO, and NTSF the rate established for Bien Dong,⁸ consistent with our practice and section 735(c)(5)(A) of the Tariff Act of 1930, as amended (the Act).⁹

⁷ See Preliminary Results, 89 FR at 76082.

⁸ In the Preliminary Results, we based the rate for non-individually-examined entities on the margins calculated for Bien Dong and a second mandatory respondent, Vinh Hoan Corporation (Vinh Hoan). Both respondents had a calculated margin of $0.00/kilogram. However, on January 17, 2025, Commerce revoked the Order with respect to Vinh Hoan and rescinded this review of the company. See Certain Frozen Fish Fillets from the Socialist Republic of Vietnam: Notice of Partial Revocation of the Antidumping Duty Order, 90 FR 8120 (January 24, 2025).

⁹ See Albemarle Corp. v. United States, 821 F.3d 1345, 1352 (Fed. Cir. 2016) (holding that Commerce may only use “other reasonable methods” if it reasonably concludes that the expected method is “not feasible” or “would not be reasonably reflective of potential dumping margins”).

Changes Since the Preliminary Results

Based on a review of the record and comments received from interested parties regarding the Preliminary Results, Commerce made no changes to its preliminary findings.

Final Results of Administrative Review

The estimated weighted-average dumping margins for the final results of this administrative review are as follows:

Exporter | Weighted- average dumping margin (dollars per kilogram)
Bien Dong Seafood Co., Ltd./Bien Dong Hau Giang Seafood Joint Stock Company/Seavina Joint Stock Company ¹⁰ | $0.00
Non-Selected Companies Receiving a Separate Rate
Can Tho Import-Export Seafood Joint Stock Company | * 0.00
Dai Thanh Seafoods Company Limited | * 0.00
Dong A Seafood One Member Co., Ltd. | * 0.00
HungCa 6 Corporation | * 0.00
Nam Viet Corporation | * 0.00
NTSF Seafoods Joint Stock Company | * 0.00
* This rate is based on the rate calculated for Bien Dong Seafood Co. Ltd.

Disclosure

Normally, Commerce discloses to interested parties the calculations of the final results of an administrative review within five days of any public announcement or, if there is no public announcement, within five days of the date of publication of the notice of the final results in the Federal Register, in accordance with 19 CFR 351.224(b). However, because we made no changes from the Preliminary Results, there are no new calculations to disclose.

¹⁰ In the Preliminary Results, Commerce preliminarily determined that Bien Dong Seafood Joint Stock Company was part of a single entity with Bien Dong Hau Giang Seafood Joint Stock Company and Seavina Joint Stock Company. See Preliminary Results, 89 FR at 76081 n.3 (citing Memorandum, “Single-Entity Analysis for Bien Dong Seafood Company, Ltd. and Affiliated Companies,” dated September 6, 2024). No party commented on this aspect of Commerce's determination, and we continue to treat the companies as a single entity for these final results.

Assessment Rates

Pursuant to section 751(a)(2)(C) of the Act, and 19 CFR 351.212(b), Commerce has determined, and U.S. Customs and Border Protection (CBP) shall assess, antidumping duties on all appropriate entries of subject merchandise covered by this review.

For Bien Dong, we will instruct CBP to liquidate the appropriate entries without regard to antidumping duties. Pursuant to Commerce's assessment practice,¹¹ for entries of Bien Dong's merchandise that were not reported in the U.S. sales data submitted by Bien Dong during this review, Commerce will instruct CBP to liquidate such entries at the Vietnam-wide entity rate.

¹¹ See Non-Market Economy Antidumping Proceedings: Assessment of Antidumping Duties, 76 FR 65694 (October 24, 2011).

For CASEAMEX, Dai Thanh, Dong A, HungCa 6, NAVICO, and NTSF, because we assigned these companies Bien Dong's rate of $0.00 per kilogram in the final results of this review, CBP shall assess, and we will instruct CBP to liquidate the appropriate entries of subject merchandise without regard to antidumping duties.

For the companies/entity listed in Appendix II, for which we are rescinding this administrative review, Commerce will instruct CBP to assess antidumping duties on all appropriate entries at a rate equal to the cash deposit of estimated antidumping duties required at the time of entry, or withdrawal from warehouse, for consumption, during the period August 1, 2022, through July 31, 2023, in accordance with 19 CFR 351.212(c)(1)(ii).

Commerce intends to issue appropriate assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this administrative review for all shipments of subject merchandise entered, or withdrawn from warehouse, for consumption on or after the publication date, as provided for by section 751(a)(2)(C) of the Act: (1) for the companies listed above, the cash deposit rate will be equal to the dumping margin established in the final results of this review (except, if the rate is zero or de minimis, then the cash deposit rate will be zero); (2) for previously examined Vietnamese and non-Vietnamese exporters not listed above that maintain separate rates based on a prior completed segment of this proceeding, the cash deposit rate will continue to be the existing exporter-specific cash deposit rate; (3) for all Vietnamese exporters of subject merchandise that have not been found to be entitled to a separate rate, the cash deposit rate will be the rate for the Vietnam-wide entity (i.e., $2.39 per kilogram); and (4) for all non-Vietnamese exporters of subject merchandise which have not received their own rate, the cash deposit rate will be the rate applicable to the Vietnamese exporter that supplied that non-Vietnamese exporter. These deposit requirements, when imposed, shall remain in effect until further notice.

Notification to Importers

This notice also serves as a final reminder to importers of their responsibility under 19 CFR 351.402(f) to file a certificate regarding the reimbursement of antidumping duties prior to liquidation of the relevant entries during this POR. Failure to comply with this requirement could result in Commerce's presumption that reimbursement of antidumping duties occurred and the subsequent assessment of doubled antidumping duties.

Administrative Protective Order

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing and publishing these final results of administrative review in accordance with sections 751(a)(l) and 777(i) of the Act, and 19 CFR 351.221(b)(5).

Dated: June 12, 2025.
Steven Presing,
Acting Deputy Assistant Secretary for Policy and Negotiations.

Appendix I

List of Topics Discussed in the Issues and Decision Memorandum

I. Summary

II. Background

III. Scope of the Order

IV. Discussion of the Issues

Comment 1: Standing of Luscious Seafood (Luscious Seafood) to Request a Review

Comment 2: Separate Rate Assignment

Comment 3: Company Names

V. Recommendation

Appendix II

Companies Treated as Part of the Vietnam-Wide Entity Rescinded From Review

1. An Chau Co., Ltd.

2. An Giang Agriculture and Food Import-Export Joint Stock Company (also known as Afiex or An Giang Agriculture and Foods Import-Export Joint Stock Company)

3. An Hai Fishery Ltd. Co.

4. An My Fish Joint Stock Company (also known as Anmyfish, Anmyfishco or An My Fish Joint Stock)

5. An Phat Import-Export Seafood Co., Ltd. (also known as An Phat Seafood Co. Ltd. or An Phat Seafood, Co., Ltd.)

6. An Phu Seafood Corp. (also known as ASEAFOOD or An Phu Seafood Corp.)

7. Anchor Seafood Corp.

8. Anh Vu Seafoods Corporation

9. Anvifish Joint Stock Company (also known as Anvifish, Anvifish JSC, or Anvifish Co., Ltd.)

10. Asia Commerce Fisheries Joint Stock Company (also known as Acomfish JSC or Acomfish)

11. Basa Joint Stock Company (also known as BASACO)

12. Ben Tre Aquaproduct Import and Export Joint Stock Company (also known as Bentre Aquaproduct, Bentre Aquaproduct Import & Export Joint Stock Company or Aquatex Bentre)

13. Bentre Forestry and Aquaproduct Import Export Joint Stock Company (also known as Bentre Forestry and Aquaproduct Import and Export Joint Stock Company, Ben Tre Forestry and Aquaproduct Import-Export Company, Ben Tre Forestry Aquaproduct Import-Export Company, Ben Tre Frozen Aquaproduct Export Company or Faquimex)

14. Bentre Seafood Jsc.

15. Binh An Seafood Joint Stock Company (also known as Binh An or Binh An Seafood Joint Stock Co.)

16. Binh Dinh Fisheries Joint Stock

17. Binh Dinh Garment Joint Stock Co.

18. Binh Dinh Import Export Company (also known as Binh Dinh Import Export Joint Stock Company, or Binh Dinh)

19. Binh Phu Seafood Co. Ltd.

20. Ca Mau Frozen Seafood Processing Import Export Corporation

21. Cadovimex II Seafood Import-Export and Processing Joint Stock Company (also known as Cadovimex II, Cadovimex II Seafood Import Export and Processing Joint Stock Company, or Cadovimex II Seafood Import-Export)

22. Cantho Imp. Exp. Seafood

23. Cantho Import Export Fishery Limited

24. Cavina Seafood Joint Stock Company (also known as Cavina Fish or Cavina Seafood Jsc)

25. Cds Overseas Vietnam Co., Ltd.

26. Colorado Boxed Beef Company (also known as CBBC)

27. Coral Triangle Processors (dba Mowi Vietnam Co., Limited (Dong Nai))

28. Cuu Long Fish Import-Export Corporation (also known as CL Panga Fish or Cuu Long Fish Imp. Exp. Corporation)

29. Cuu Long Fish Joint Stock Company (also known as CL-Fish, CL-FISH CORP, or Cuu Long Fish Joint Stock Company)

30. Cuu Long Seapro.

31. Da Nang Seaproducts Import-Export Corporation (also known as SEADANANG, Da Nang or Da Nang Seaproducts Import/Export Corp.)

32. Dai Tien Vinh Co., Ltd.

33. Dong Phuong Co., Ltd.

34. Dong Phuong Import Export Seafood Company Limited (also known as Dong Phuong Export Seafood Limited, Dong Phuong Seafood Company Limited, or aFishDeal)

35. Dragonwaves Frozen Food Factory Co., Ltd.

36. Europe Trading Co., Ltd.

37. GF Seafood Corp.

38. Gia Minh Co. Ltd.

39. Go Dang An Hiep One Member Limited Company

40. Go Dang Ben Tre One Member Limited Liability Company

41. Gold Future Imp. Exp.

42. Gold Future Imp. Exp. Development Co. Ltd.

43. Golden Quality Seafood Corporation (also known as Golden Quality, GoldenQuality, GOLDENQUALITY, or GoldenQuality Seafood Corporation)

44. GreenFeed Vietnam Corporation

45. Ha Noi Can Tho Seafood Jsc.

46. Hai Thuan Nam Co Ltd.

47. Hai Trieu Co., Ltd.

48. Hapag Lloyd (America) Inc.

49. Hasa Seafood Corp. (Hasaco)

50. Hiep Thanh Seafood Joint Stock Company (also known as Hiep Thanh or Hiep Thanh Seafood Joint Stock Co.)

51. Hoa Phat Seafood Import-Export and Processing J.S.C. (also known as HOPAFISH, Hoa Phat Seafood Import-Export and Processing Joint Stock Company, Hoa Phat Seafood Import-Export and Processing JSC, or Hoa Phat Seafood Imp. Exp. And Processing)

52. Hoang Long Seafood Processing Company Limited (also known as HLS, Hoang Long, Hoang Long Seafood, HoangLong Seafood, or Hoang Long Seafood Processing Co., Ltd.)

53. Hogiya Seafoods Inc.

54. Hong Hai International

55. Hong Ngoc Seafood Co., Ltd.

56. Hung Phuc Thinh Food Jsc.

57. Hung Vuong Seafood Joint Stock Company

58. Hung Vuong

59. Hung Vuong—Mien Tay Aquaculture Corporation (HVMT or Hung Vuong Mien Tay Aquaculture Joint Stock Company)

60. Hungca Co., Ltd.

61. I.D.I International Development And

62. Indian Ocean One Member Company Limited (also known as Indian Ocean Co., Ltd.)

63. Jk Fish Jsc.

64. Lian Heng Trading Co. Ltd. (also known as Lian Heng, Lian Heng Trading, Lian Heng Investment Co. Ltd., or Lian Heng Investment)

65. Mechanics Construction And Foodstuff

66. Mekong Seafood Connection Co., Ltd.

67. Minh Phu Hau Giang Seafood Corp.

68. Minh Phu Seafood Corp.

69. Minh Qui Seafood Co., Ltd.

70. Nam Phuong Seafood Co., Ltd. (also known as Nam Phuong, NAFISHCO, Nam Phuong Seafood, or Nam Phuong Seafood Company Ltd.)

71. New Food Import, Inc.

72. Ngoc Ha Co. Ltd. Food Processing and Trading (also known as Ngoc Ha or Ngoc Ha Co., Ltd. Foods Processing and Trading)

73. Ngoc Tri Seafood Joint Stock

74. Nguyen Tran Seafood Company (also known as Nguyen Tran J-S Co)

75. Nha Trang Seafoods, Inc. (also known as Nha Trang Seafoods-F89, Nha Trang Seafoods, or Nha Trang Seaproduct Company)

76. NTACO Corporation (also known as NTACO or NTACO Corp.)

77. Pecheries Oceanic Fisheries Inc.

78. Phi Long Food Manufacturing Co. Ltd.

79. Phu Thanh Co., Ltd.

80. Phu Thanh Hai Co. Ltd. (also known as PTH Seafood)

81. Phuc Tam Loi Fisheries Imp.

82. Phuong Ngoc Cai Be Ltd. Liability

83. PREFCO Distribution, LLC

84. Pufong Trading And Service Co.

85. QMC Foods, Inc.

86. Qn Seafood Co., Ltd.

87. Quang Minh Seafood Company Limited (also known as Quang Minh, Quang Minh Seafood Co., Ltd., or Quang Minh Seafood Co.)

88. Quirch Foods, LLC

89. Riptide Foods

90. Saigon-Mekong Fishery Co., Ltd. (also known as SAMEFICO or Saigon Mekong Fishery Co., Ltd.)

91. Seafood Joint Stock Company No. 4 (also known as SEAPRIEXCO No. 4)

92. Seafood Joint Stock Company No. 4 Branch Dongtam Fisheries Processing Company (also known as DOTASEAFOODCO or Seafood Joint Stock Company No. 4—Branch Dong Tam Fisheries Processing Company)

93. Seagate Logistics Co., Ltd.

94. Sobi Co., Ltd.

95. Song Bien Co., Ltd.

96. Southern Fishery Industries Company, Ltd. (also known as South Vina, South Vina Co., Ltd., Southern Fishery Industries Co., Ltd., Southern Fisheries Industries Company, Ltd., or Southern Fisheries Industries Company Limited)

97. Sunrise Corporation

98. Tam Le Food Co., Ltd.

99. Tan Thanh Loi Frozen Food Co., Ltd.

100. TG Fishery Holdings Corporation (also known as TG or Tg Fishery Holdings Corp.)

101. Thanh Dat Food Service And Trading

102. Thanh Hung Co., Ltd. (also known as Thanh Hung Frozen Seafood Processing Import Export Co., Ltd. or Thanh Hung)

103. Thanh Phong Fisheries Corp.

104. The Great Fish Company, LLC

105. Thien Ma Seafood Co., Ltd. (also known as THIMACO, Thien Ma, Thien Ma Seafood Company, Ltd., or Thien Ma Seafoods Co., Ltd.)

106. Thinh Hung Co., Ltd.

107. Thuan An Production Trading and Service Co., Ltd. (also known as TAFISHCO, Thuan An Production Trading and Services Co., Ltd., or Thuan An Production Trading & Service Co., Ltd.)

108. Thuan Nhan Phat Co., Ltd.

109. Thuan Phuoc Seafoods and Trading Corporation

110. To Chau Joint Stock Company (also known as TOCHAU, TOCHAU JSC, or TOCHAU Joint Stock Company)

111. Tran Thai Food Joint Stock

112. Trang Thuy Seafood Co., Ltd.

113. Trinity Vietnam Co., Ltd.

114. Trong Nhan Seafood Co., Ltd.

115. Truong Phat Seafood Jsc.

116. Van Y Corp.

117. Van

118. Viet Hai Seafood Company Limited (also known as Viet Hai, Viet Hai Seafood Co., Ltd., Viet Hai Seafood Co., Vietnam Fish-One Co., Ltd., or Fish One)

119. Viet Long Seafood Co., Ltd.

120. Viet Phat Aquatic Products Co., Ltd.

121. Viet Phu Foods & Fish Co., Ltd.

122. Viet Phu Foods and Fish Corporation (also known as Vietphu, Viet Phu, Viet Phu Food and Fish Corporation, or Viet Phu Food & Fish Corporation)

123. Viet World Co., Ltd.

124. Vietnam Seaproducts Joint Stock Company (also known as Seaprodex or Vietnam Seafood Corporation—Joint Stock Company)

125. Vif Seafood Factory

126. Vinh Long Import-Export Company (also known as Vinh Long, Imex Cuu Long, Vinh Long Import/Export Company)

127. Vietnam-wide Entity

[FR Doc. 2025-11205 Filed 6-17-25; 8:45 am]

BILLING CODE 3510-DS-P